DEPARTMENT OF DEFENSE

Office of the Secretary

[Docket ID: DoD-2014-OS-0063]

Proposed Collection; Comment Request

AGENCY: Washington Headquarters Service (WHS), DoD.

ACTION: Notice.

SUMMARY: In compliance with Section 3506(c)(2)(A) of the Paperwork Reduction Act of 1995, the Washington Headquarters Service (WHS), announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by July 11, 2014.

ADDRESSES: You may submit comments, identified by docket number and title, by any of the following methods:

• Federal eRulemaking Portal: http://www.regulations.gov. Follow the instructions for submitting comments.

• Mail: Federal Docket Management System Office, 4800 Mark Center Drive, East Tower, Suite 02G09, Alexandria, VA 22350-3100.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please write to Pentagon Force Protection Agency ATTN: Parking Management Branch, Room 2D1039, 9000 Defense Pentagon, Washington, DC 20301-9000.

SUPPLEMENTARY INFORMATION: Title; Associated Form; and OMB Number: Pentagon Reservation Parking Permit Application; DD Form 1199; OMB Control Number 0704-0395.

Needs and Uses: To administer the Pentagon, Mark Center, and Suffolk Building Vehicle Parking Program where individuals are allocated parking spaces and to ensure that unless authorized to do so, parking permit applicants do not also receive the DoD National Capital Region Public Transportation fare subsidy benefit.

Affected Public: Individuals or households.

Annual Burden Hours: 350.

Number of Respondents: 4,200.

Responses per Respondent: 1.

Total Annual Responses: 4,200.

Average Burden per Response: 5 minutes.

Frequency: On occasion.

Respondents are Department of Defense and non-DoD personnel who utilize designated parking areas on the Pentagon Reservation. The Pentagon Reservation Parking Permit Application (PRPPA), DD Form 1199, is a handwritten or electronic form that includes information, such as name, rank or grade, Social Security Number (SSN), and vehicle license plate number, required for the issuance and control of the parking permit. The DD Form 1199 data is entered or completed in a secured computerized database designed for the administration of the Pentagon, Mark Center, and Suffolk Building Vehicle Parking Program. Each member of an authorized van/car pool or single occupancy vehicle parking permit is required to complete and submit the DD Form 1199 upon initial application and upon renewal period thereafter.

Dated: May 7, 2014.
Aaron Siegel,
Alternate OSD Federal Register, Liaison Officer, Department of Defense.

[FR Doc. 2014-10841 Filed 5-9-14; 8:45 am]

BILLING CODE 5001-06-P